DEPARTMENT OF AGRICULTURE

Animal and Plant Health Inspection Service

[Docket No. APHIS-2013-0068]

Notice of Request for Extension of Approval of an Information Collection; Phytophthora Ramorum; Quarantine and Regulations

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the interstate movement of regulated articles to prevent the spread of Phytophthora ramorum.

DATES: We will consider all comments that we receive on or before November 25, 2013.

ADDRESSES: You may submit comments by either of the following methods:

• Federal eRulemaking Portal: Go to http://www.regulations.gov/#!documentDetail;D=APHIS-013-0068-0001.

• Postal Mail/Commercial Delivery: Send your comment to Docket No. APHIS-2013-0068, Regulatory Analysis and Development, PPD, APHIS, Station 3A-03.8, 4700 River Road Unit 118, Riverdale, MD 20737-1238.

Supporting documents and any comments we receive on this docket may be viewed at http://www.regulations.gov/#!docketDetail;D=APHIS-2013-0068 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the interstate movement of regulated articles to prevent the spread of Phytophthora ramorum, contact Dr. Prakash K. Hebbar, National Policy Manager, PPQ, APHIS, 4700 River Road Unit 26, Riverdale, MD 20737-1231; (301) 851-2228. For copies of more detailed information on the information collection, contact Mrs. Celeste Sickles, APHIS' Information Collection Coordinator, at (301) 851-2908.

SUPPLEMENTARY INFORMATION: Title: Phytophthora Ramorum; Quarantine and Regulations.

OMB Number: 0579-0310.

Type of Request: Extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States.

In accordance with the regulations in “Subpart-Phytophthora Ramorum” (§§ 301.92 through 301.92-12), the Animal and Plant Health Inspection Service (APHIS) of the U.S. Department of Agriculture (USDA) restricts the interstate movement of certain articles to prevent the spread of Phytophthora ramorum, the plant pathogen that causes the disease commonly known as sudden oak death. The regulations contain requirements for the interstate movement of regulated articles, such as nursery stock and certain trees, from both quarantined and nonquarantined areas and involve information collection activities, including an USDA-APHIS Plant Protection and Quarantine (PPQ) Compliance Agreement (PPQ Form 519), issuance and cancellation of certificates, maintaining records of shipments, and records of fungicide applications.

Since the last approval of these collection activities, there have been several changes to the P. ramorum program. APHIS no longer applies the P. ramorum regulatory requirements to the interstate movement of non-host nursery stock from certain nurseries located in the regulated areas of California, Oregon, and Washington. We have also adjusted the number of record keepers of fungicide applications to more accurately reflect the number of nurseries. In addition, we have reduced the number of record keepers for incoming and outgoing shipments of plants to reflect the number of host nurseries and farms that record shipments. All of these changes have led to changes in our burden estimates. For instance, we have increased the estimate of burden from 0.31 to 1.097 hours per response and increased the estimated total annual burden on respondents from 2,263 to 4,076 hours. We have also decreased the estimated annual number of responses and the estimated annual number of responses per respondent from 7,227 to 3,717 and 5.06 to 2.26, respectively. Lastly, we have increased the estimated annual number of respondents from 1,427 to 1,644,

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.097 hours per response.

Respondents: Nurseries in California, Oregon, and Washington.

Estimated annual number of respondents: 1,644.

Estimated annual number of responses per respondent: 2.26.

Estimated annual number of responses: 3,717.

Estimated total annual burden on respondents: 4,076 hours. (Due to averaging, the total annual burden hours may not equal the product of the annual number of responses multiplied by the reporting burden per response.)

All responses to this notice will be summarized and included in the request for OMB approval. All comments will also become a matter of public record.

Done in Washington, DC, this 19th day of September 2013.
Kevin Shea,
Administrator, Animal and Plant Health Inspection Service.

[FR Doc. 2013-23301 Filed 9-24-13; 8:45 am]

BILLING CODE 3410-34-P